FEDERAL COMMUNICATIONS COMMISSION

Sunshine Act Meeting

February 17, 2016.

The Federal Communications Commission will hold an Open Meeting on the subjects listed below on Thursday, February 18, 2016, which is scheduled to commence at 10:30 a.m. in Room TW-C305, at 445 12th Street SW., Washington, DC.

The Federal Communications Commission will hold an Open Meeting on the subjects listed below on Thursday, February 18, 2016, which is scheduled to commence at 10:30 a.m. in Room TW-C305, at 445 12th Street SW., Washington, DC.

Item No. | Bureau | Subject
1 | MEDIA | TITLE: Promoting the Availability of Diverse and Independent Sources of Video Programming.
|  | SUMMARY: The Commission will consider a Notice of Inquiry that seeks comment on the current state of programming diversity and the principal obstacles that independent programmers face in obtaining carriage on video distribution platforms.
2 | MEDIA | TITLE: Expanding Consumers' Video Navigation Choices; Commercial Availability of Navigation Devices (CS Docket No. 97-80).
|  | SUMMARY: The Commission plans to discuss a document that seeks comment on a framework for providing innovators, device manufacturers and app developers the information they need to develop new technologies to access video content.
3 | CONSUMER & GOVERNMENTAL AFFAIRS | TITLE: Closed Captioning of Video Programming (CG Docket No. 05-231); Telecommunications for the Deaf and Hard of Hearing, Inc. Petition for Rulemaking.
|  | SUMMARY: The Commission will consider a Second Report and Order that allocates responsibilities for the delivery of closed captions on video programming and the handling of captioning complaints.

* * * * *

Consent Agenda

The Commission will consider the following subjects listed below as a consent agenda and these items will not be presented individually:

1 | ENFORCEMENT | TITLE: Enforcement Bureau Action.
|  | SUMMARY: The Commission will consider whether to take an enforcement action.
2 | ENFORCEMENT | TITLE: Enforcement Bureau Action.
|  | SUMMARY: The Commission will consider whether to take an enforcement action.
3 | ENFORCEMENT | TITLE: Enforcement Bureau Action.
|  | SUMMARY: The Commission will consider whether to take an enforcement action.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Gloria J. Miles,
Federal Register Liaison Officer, Office of the Secretary.

[FR Doc. 2016-03502 Filed 2-16-16; 4:15 pm]

BILLING CODE 6712-01-P